DEPARTMENT OF ENERGY

Federal Energy Regulatory Commission

Combined Notice of Filings #2

Take notice that the Commission received the following electric rate filings:

Docket Numbers: ER12-1580-000.

Applicants: PJM Interconnection, L.L.C.

Description: Original Service Agreement No. 3279; Queue No. X1-046 to be effective 3/29/2012.

Filed Date: 4/20/12.

Accession Number: 20120420-5023.

Comments Due: 5 p.m. ET 5/11/12.

Docket Numbers: ER12-1582-000.

Applicants: Carolina Power & Light Company.

Description: Revised Rate Schedule No. 173 of Carolina Power and Light Company to be effective 5/1/2012.

Filed Date: 4/20/12.

Accession Number: 20120420-5043.

Comments Due: 5 p.m. ET 5/11/12.

Docket Numbers: ER12-1583-000.

Applicants: Southwestern Public Service Company.

Description: 4-20-12_RS132 SPS-GSEC_PSA Cancel to be effective 4/20/2012.

Filed Date: 4/20/12.

Accession Number: 20120420-5044.

Comments Due: 5 p.m. ET 5/11/12.

Docket Numbers: ER12-1584-000.

Applicants: Southwest Power Pool, Inc.

Description: Southwest Power Pool, Inc.'s Notice of Cancellation of Large Generator Interconnection Agreement.

Filed Date: 4/20/12.

Accession Number: 20120420-5113.

Comments Due: 5 p.m. ET 5/11/12.

Docket Numbers: ER12-1585-000.

Applicants: Southwest Power Pool, Inc.

Description: Southwest Power Pool, Inc.'s Notice of Cancellation of Large Generator Interconnection Agreement.

Filed Date: 4/20/12.

Accession Number: 20120420-5114.

Comments Due: 5 p.m. ET 5/11/12.

Docket Numbers: ER12-1586-000.

Applicants: Southwest Power Pool, Inc.

Description: Southwest Power Pool, Inc. submits tariff filing per 35.13(a)(2)(iii: Rate Schedule 13—Western Area Power Administration Joint Operating Agreement to be effective 4/30/2012.

Filed Date: 4/20/12.

Accession Number: 20120420-5143.

Comments Due: 5 p.m. ET 5/11/12.

Docket Numbers: ER12-1587-000.

Applicants: Northeastern Power Company.

Description: Northeastern Power Company submits tariff filing per 35.12: NEPCO Reactive Power Rate Schedule to be effective 4/20/2012.

Filed Date: 4/20/12.

Accession Number: 20120420-5163.

Comments Due: 5 p.m. ET 5/11/12.

Take notice that the Commission received the following electric securities filings:

Docket Numbers: ES12-35-000.

Applicants: Consumers Energy Company.

Description: Application for Authority to Issue Long Term Securities of Consumers Energy Company.

Filed Date: 4/20/12.

Accession Number: 20120420-5183.

Comments Due: 5 p.m. ET 5/11/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 20, 2012.
Nathaniel J. Davis, Sr.,
Deputy Secretary.

[FR Doc. 2012-11172 Filed 5-8-12; 8:45 am]

BILLING CODE 6717-01-P